DEPARTMENT OF THE INTERIOR

Bureau of Reclamation

[RX.17731720.0000000 24XR0680S1 RR040U2200]

Colorado River Basin Salinity Control Advisory Council Notice of Public Meeting

AGENCY: Bureau of Reclamation, Interior.

ACTION: Notice of public meeting.

SUMMARY: The Bureau of Reclamation is publishing this notice to announce that a Federal Advisory Committee meeting of the Colorado River Basin Salinity Control Advisory Council (Council) will take place. The meeting is open to the public.

DATES: The meeting will take place in-person and virtually on Tuesday, October 22, 2024, from 1:30 p.m. to 4:30 p.m.; and Wednesday, October 23, 2024, from 8:30 a.m. to approximately 10:00 a.m. (MDT).

ADDRESSES: The in-person meeting will be held at the Marriott Courtyard, Scottsdale Salt River, 5201 North Pima Road, Scottsdale, Arizona 85250.

To access the meeting virtually, please contact Clarence Fullard; see FOR FURTHER INFORMATION CONTACT.

FOR FURTHER INFORMATION CONTACT: Clarence Fullard, telephone (303) 253-1042; email at cfullard@usbr.gov. Individuals who are deaf, deafblind, hard of hearing, or have a speech disability may dial 711 (TTY, TDD, or TeleBraille) to access telecommunications relay services. Individuals outside the United States should use the relay services offered within their country to make international calls to the point-of-contact in the United States.

SUPPLEMENTARY INFORMATION: The meeting of the Council is being held under the provisions of the Federal Advisory Committee Act of 1972. The Council was established by the Colorado River Basin Salinity Control Act of 1974 (Pub. L. 93-320) (Act) to receive reports and advise Federal agencies on implementing the Act.

Purpose of the Meeting: The purpose of the meeting is to discuss the accomplishments of Federal agencies and make recommendations on future activities to control salinity in the Colorado River Basin.

Agenda: Council members will be briefed on the status of salinity control activities. Discussions about salinity control research studies will occur. The Bureau of Reclamation, Bureau of Land Management, U.S. Fish and Wildlife Service, and United States Geological Survey of the Department of the Interior; the Natural Resources Conservation Service of the Department of Agriculture; and the Environmental Protection Agency will each present a progress report and a schedule of activities on salinity control in the Colorado River Basin. The Council will discuss salinity control activities, the contents of the reports, and the Basin States Program created by Public Law 110-246, which amended the Act. A final agenda will be posted online at https://www.usbr.gov/uc/progact/salinity/ at least one week prior to the meeting.

Meeting Accessibility/Special Accommodations: The meeting is open to the public. Please make requests in advance for sign language interpreter services, assistive listening devices, language translation services, or other reasonable accommodations. We ask that you contact Clarence Fullard (see FOR FURTHER INFORMATION CONTACT section of this notice) at least seven (7) business days prior to the meeting to give the Department of the Interior sufficient time to process your request. All reasonable accommodation requests are managed on a case-by-case basis.

Individuals wanting virtual access to the meeting or those requiring special accommodations should contact Clarence Fullard (see FOR FURTHER INFORMATION CONTACT) no later than October 9, 2024, to receive instructions.

Public Comments: The Council chairman will provide time for oral comments from members of the public at the meeting. Individuals wanting to make an oral comment should contact Clarence Fullard (see FOR FURTHER INFORMATION CONTACT) to be placed on the public comment list. Members of the public may also file written statements with the Council before, during, or up to 30 days after the meeting either in person or by mail. To allow full consideration of information by Council members at this meeting, written comments must be provided to Clarence Fullard (see FOR FURTHER INFORMATION CONTACT) by October 9, 2024.

Public Disclosure of Personal Information: Before including your address, phone number, email address, or other personal identifying information in your comment, you should be aware that your entire comment—including your personal identifying information—may be made publicly available at any time. While you can ask us in your comment to withhold your personal identifying information from public review, we cannot guarantee that we will be able to do so.

Authority: 5 U.S.C. Ch. 10.

Katrina Grantz,
Deputy Regional Director, Upper Colorado Basin—Interior Region 7, Bureau of Reclamation.

[FR Doc. 2024-23131 Filed 10-4-24; 8:45 am]

BILLING CODE 4332-90-P